DEPARTMENT OF COMMERCE

National Oceanic and Atmospheric Administration

[I.D. 032103C]

Endangered Species; File No. 1418

AGENCY: National Marine Fisheries Service (NMFS), National Oceanic and Atmospheric Administration (NOAA), Commerce.

ACTION: Receipt of application.

SUMMARY: Notice is hereby given that Lawrence D. Wood, Marine Life Center of Juno Beach, 14200 U.S. Hwy. 1, Juno Beach, FL 33408, has applied in due form for a permit to take hawksbill sea turtles (Eretmochelys imbricata) for purposes of scientific research.

DATES: Written or telefaxed comments must be received on or before June 19, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, 9721 Executive Center Drive North, St. Petersburg, FL 33702-2432; phone (727)570-5301; fax (727)570-5320.

FOR FURTHER INFORMATION CONTACT: Patrick Opay (301)713-1401 or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to study the abundance and distribution of hawksbill sea turtles in the waters of Palm Beach County, FL. The purpose of this project is to support hawksbill recovery efforts by surveying the local population to document the distribution and movement of individuals in these waters. Larger turtles will be hand captured and smaller individuals will be captured using a 24 inch (60 cm) diameter dip-net. Turtles will be retained on a vessel for the collection of morphometric data, tagging, numbering, photographs, and tissue sampling, and then released. Seventy-five turtles of all sizes will be captured annually, and the requested duration of this permit is 5 years.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: May 14, 2003.
Stephen L. Leathery,
Chief, Permits, Conservation and Education Division, Office of Protected Resources, National Marine Fisheries Service.

[FR Doc. 03-12650 Filed 5-19-03; 8:45 am]

BILLING CODE 3510-22-S